DEPARTMENT OF ENERGY

Federal Energy Regulatory Commission

[Docket No. RP02-540-000]

Young Gas Storage Company, Ltd.; Notice of Proposed Changes in FERC Gas Tariff

September 19, 2002.

Take notice that on September 10, 2002, Young Gas Storage Company, Ltd. (Young) tendered for filing as part of its FERC Gas Tariff, Original Volume No. 1, the following tariff sheets to become effective October 11, 2002:

Seventh Revised Sheet No. 97

Third Revised Sheet No. 98

The proposed tariff provision limits, under certain circumstances, the liability of a municipality in the event its utility defaults on its payment obligations.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-24328 Filed 9-25-02; 8:45 am]

BILLING CODE 6717-01-P